DEPARTMENT OF LABOR

Bureau of Labor Statistics

Proposed Extension of Information Collection; Report on Occupational Employment and Wages

AGENCY: Bureau of Labor Statistics, Department of Labor.

ACTION: Request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed extension of the “Report on Occupational Employment and Wages.” A copy of the proposed information collection request can be obtained by contacting the individual listed below in the Addresses section of this notice.

DATES: Written comments must be submitted to the office listed in the Addresses section of this notice on or before March 17, 2026.

ADDRESSES: Send comments to Morgan Scheinin, BLS Clearance Officer, Division of Management Systems, Bureau of Labor Statistics, by email to BLS_PRA_Public@bls.gov.

FOR FURTHER INFORMATION CONTACT: Morgan Scheinin, BLS Clearance Officer, at 202-691-7628 (this is not a toll free number). (See ADDRESSES section.)

SUPPLEMENTARY INFORMATION:

I. Background

The Occupational Employment and Wage Statistics (OEWS) survey is a Federal/State establishment survey of wage and salary workers designed to produce data on current detailed occupational employment and wages for each Metropolitan Statistical Area and Metropolitan Division as well as by detailed industry classification. OEWS survey data assist in the development of employment and training programs established by the Perkins Vocational Education Act of 1998 and the Wagner-Peyser Act.

The OEWS program operates a periodic mail survey of a sample of establishments conducted by all fifty States, the District of Columbia, Guam, Puerto Rico, and the U.S. Virgin Islands. Over three-year periods, data on occupational employment and wages are collected by industry at the four- and five-digit North American Industry Classification System (NAICS) levels. The Department of Labor uses OEWS data in the administration of the Foreign Labor Certification process under the Immigration Act of 1990.

II. Current Action

Office of Management and Budget clearance is being sought to continue collection of the OEWS survey. The OEWS program will also submit an OMB non-substantive change request for the anticipated expansion of agriculture industry coverage to be collected in upcoming panels. It is estimated that there will be an increase of 25,000 agricultural units over the 6 semi-annual panels for the span of this 3-year package. Occupational employment data obtained by the OEWS survey are used to develop information regarding current and projected employment needs and job opportunities. These data assist in the development of State vocational education plans. OEWS wage data provide a significant source of information to support a number of different Federal, State, and local efforts.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Report on Occupational Employment and Wages.

OMB Number: 1220-0042.

Type of Review: Extension.

Affected Public: Business or other for-profit, Not-for-profit institutions, Federal Government, State, Local, or Tribal Government.

Annual Number of Respondents: 239,000.

Frequency: Semi-annually.

Annual Total Responses: 239,000.

Average Time per Response: 30 minutes.

Estimated Annual Total Burden Hours: 119,500.

Total Burden Cost (Operating/Maintenance): $4,348,605.

Comments submitted in response to this notice will be summarized and/or included in the request for Office of Management and Budget approval of the information collection request; they also will become a matter of public record.

Signed on January 12, 2026.
Eric Molina,
Chief, Division of Management Systems, Branch of Policy Analysis.

[FR Doc. 2026-00795 Filed 1-15-26; 8:45 am]

BILLING CODE 4510-24-P